DEPARTMENT OF COMMERCE

International Trade Administration

University of Hawaii; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5 p.m. in Room 4211, U.S. Department of Commerce, 14th and Constitution Avenue, NW, Washington, DC.

Docket Number: 99-027. Applicant: University of Hawaii, Honolulu, HI 96822. Instrument: Low-Level Beta Counter, Model GM-25-5. Manufacturer: Riso National Laboratory, Denmark. Intended Use: See notice at 64 FR 63788. November 22, 1999.

Comments: None received. Decision: Approved. No instrument of equivalent scientific value to the foreign instrument, for such purposes as it is intended to be used, is being manufactured in the United States. Reasons: The foreign instrument provides: (1) Robust design and portability for shipboard operation, (2) one-inch detector windows and (3) a background of 0.178± 0.003 counts per minute. Woods Hole Oceanographic Institution advised January 28, 2000 that (1) these capabilities are pertinent to the applicant's intended purpose and (2) it knows of no domestic instrument or apparatus of equivalent scientific value to the foreign instrument for the applicant's intended use.

We know of no other instrument or apparatus of equivalent scientific value to the foreign instrument which is being manufactured in the United States.

Frank W. Creel,
Director, Statutory Import Programs Staff.

[FR Doc. 00-3262 Filed 2-10-00; 8:45 am]

BILLING CODE 3510-DS-P